DEPARTMENT OF COMMERCE

National Oceanic and Atmospheric Administration

[I.D. 081203A]

Endangered and Threatened Species; Take of Anadromous Fish

AGENCY: National Marine Fisheries Service (NMFS), National Oceanic and Atmospheric Administration (NOAA), Commerce.

ACTION: Receipt of applications for scientific research permits 1433 and 1440 and request for comment.

SUMMARY: Notice is hereby given that NMFS has received an application for scientific research from US Bureau of Reclamation (BOR) in Shasta Lake, CA (1433) and Interagency Ecological Program (IEP) in Stockton, CA (1440). These permits would affect federally endangered Sacramento River winter-run Chinook salmon, threatened Central Valley spring-run Chinook salmon, and threatened Central Valley steelhead. The latter permit (1440) would also affect threatened Central California Coast steelhead. This document serves to notify the public of the availability of the permit applications for review and comment.

DATES: Written comments on the permit applications must be received at the appropriate address or fax number (see ADDRESSES) no later than 5 p.m. Pacific standard time on September 17, 2003.

ADDRESSES: Written comments on this request should be sent to the appropriate office as indicated below. Comments may also be sent via fax to the number indicated for the request. Comments will not be accepted if submitted via e-mail or the Internet. The applications and related documents for permits 1433 and 1440 are available for review by appointment at the following address: Protected Resources Division, NMFS, 650 Capitol Mall, Suite 8-300, Sacramento, CA 95814 (ph: 916-930-3614, fax: 916-930-3629).

FOR FURTHER INFORMATION CONTACT: Rosalie del Rosario at phone number 916-930-3614, or e-mail: Rosalie.delRosario@noaa.gov.

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally endangered Sacramento River winter-run Chinook salmon (Oncorhynchus tshawytscha), threatened Central Valley spring-run Chinook salmon (O. tshawytscha), threatened Central Valley steelhead (O. mykiss), and threatened Central California Coast steelhead (O. mykiss).

Applications Received

BOR requests a 3-year permit (1433) for take of juvenile endangered Sacramento River winter-run Chinook salmon, threatened Central Valley spring-run Chinook salmon, and threatened Central Valley steelhead to characterize the biological community in the upper Sacramento River during gate operations of the Red Bluff Diversion Dam. BOR requests authorization for an estimated total take of 1,950 juvenile winter-run Chinook salmon (that includes 1 percent incidental mortality), 50 juvenile spring-run Chinook salmon (that includes 4 percent incidental mortality), and 65 juvenile steelhead (3 percent incidental mortality) resulting from capturing by beach seine, measuring, and releasing of fish.

IEP requests a 5-year permit (1440) for incidental take of adult and juvenile Sacramento River winter-run Chinook salmon, Central Valley spring-run Chinook salmon, Central Valley steelhead, and Central California Coast steelhead associated with 11 studies that aim to evaluate the effects of water export facilities (State Water Project and Central Valley Water Project) on aquatic organisms. IEP requests authorization for an estimated annual take of 18 adult and 167 juvenile winter-run Chinook salmon (that includes 6 percent and 13 percent incidental mortality, respectively), 17 adult and 1,040 spring-run Chinook salmon (that includes 6 percent and 7 percent incidental mortality), 22 adult and 143 juvenile steelhead (that includes 5 percent and 12 percent incidental mortality), and 2 juvenile Central California Coast steelhead (no mortality) resulting from the proposed studies.

Dated: August 12, 2003.
Susan Pultz,
Acting Chief, Endangered Species Division, Office of Protected Resources, National Marine Fisheries Service.

[FR Doc. 03-21066 Filed 8-15-03; 8:45 am]

BILLING CODE 3510-22-S